DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, email the SAMHSA Reports Clearance Officer at samhsapra@samhsa.hhs.gov.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 988 Cooperative Agreements Monitoring Program (OMB No. 0930-0290)—New ICR

The Substance Abuse and Mental Health Services Administration (SAMHSA) is seeking Office of Management and Budget (OMB) Emergency approval for new information collection activities for monitoring all of SAMHSA's 988 Cooperative Agreements. The collection of this information is critical to successfully oversee operational response and quality of service through the 988 Suicide and Crisis Lifeline to ensure connections to care for individuals in suicidal crisis or emotional distress contacting in for 988 phone, chat, and text support for connecting local, state/territory and national outcomes and monitoring contractual obligations for current and future 988 grant programs. Much of this information is already embedded in the current 988 Suicide and Crisis Lifeline network administrator grants, the 988 state and territory grant program, or the 988 Tribal Response grant program.

Congress designated 988 in 2020 and the Lifeline transitioned to the 3-digit number in July 2022. As a part of the federal government's commitment to addressing the mental health crisis in America, unprecedented federal resources have been invested to scale up crisis centers in support of 988. In Section 1103(a)(2)(B) of the Consolidated Appropriations Act, 2023, Congress called for enhanced program evaluation, including performance measures to assess program response and improve readiness and performance of the service, including review of each contact to ensure timely connection of service and quality provision in line with evidence-based care. In order to help meet the standards and requirements set forth in statute, ongoing communication of key outcomes within this OMB request must be received and reviewed to ensure connection and quality of care through 988.

The information being collected will be used by SAMHSA to ensure individuals in suicidal crisis can contact 988 Suicide and Crisis Lifeline and are connected to crisis centers provided evidence-based care and able to receive critical resource referral and linkage, including opportunities for mobile crisis support, crisis receiving and stabilizing facilities, peer respite centers and withdrawal management services. The four programs to be monitored and evaluated include the Tribal Cooperative Agreements, State and Territory Cooperative Agreements, 988 Crisis Center Follow-up Cooperative Agreements, and the 988 Lifeline Administrator.

The purpose of the Tribal Cooperative Agreements is to provide resources to improve response to 988 contacts (including calls, chats, and texts) originating in Tribal communities and/or activated by American Indians/Alaska Natives. The information collection instruments include Tribal Government: Semi Annual Progress Report, Tribal Government: Monthly Meeting Agenda, Tribal Government: Quality Improvement Plan.

The purpose of the State and Territory Cooperative Agreements is to improve state and territory response to 988 contacts (including calls, chats, and texts) originating in the state/territory. The information collection instruments include State/Territory: Monthly Key Metrics, State/Territory: Quarterly Report Template, State/Territory: Programmatic QI Plan (Annual Collection), State/Territory: Monthly Meeting Call Agenda, State/Territory: Chat and Text Report (Annual Collection), State/Territory: Communications Plan (Annual Collection), State/Territory: Sustainability Plan (Annual Collection), State/Territory: Mobile Crisis and 988-911 reports (Annual Collection).

The purpose of the 988 Crisis Center Follow Up Cooperative Agreements is to provide a crisis center response that ensures the systematic follow-up of suicidal persons who contact a 988 Suicide and Crisis Lifeline (988 Lifeline) Crisis Center; provides enhanced coordination of crisis stabilization, crisis respite, mobile crisis outreach (MCO) response services and other services on the crisis continuum of care; reduces unnecessary police engagement and; improves connections for high-risk populations. The information collection instruments include Crisis Center Data Reporting Elements and Crisis Center Monthly Agenda Template.

Finally, the purpose of the 988 Lifeline Administrator is to manage, enhance, and strengthen the 988 Lifeline network that routes individuals in the United States to a network of certified crisis centers that link to local emergency, mental health, and social services resources. The information collection instruments include Instrument 1: Lifeline Key Metrics (Monthly) and Instrument 2: Monthly Progress Reports.

The total annualized burden to an estimated 529 respondents for the 988 Cooperative Agreements programs combined monitoring is estimated to be 2,944 hours. Burden estimates are based on the data collection requirements and the amount of respondents. These estimated burden hours over three years are as follows:

Estimated Total Burden for 988 Cooperative Agreements Monitoring Program
SAMHSA tool | Number of respondents | Responses per respondent | Total responses | Hours per response | Total hour burden | Hourly wage cost | Total hour cost
Tribal Govt: Semi Annual Progress Report | 25 | 2 | 50 | 2 | 100 | $26.00 | $2,600.00
Tribal Govt: Monthly Meeting Agenda | 25 | 12 | 300 | 1 | 300 | 26.00 | 7,800.00
Tribal Govt: Quality Improvement Plan | 25 | 1 | 25 | 2 | 50 | 26.00 | 1,300.00
State/Territory: Monthly Key Metrics | 54 | 12 | 648 | 1 | 648 | 26.00 | 16,848.00
State/Territory: Quarterly Report Template | 54 | 3 | 162 | 2 | 324 | 26.00 | 8,424.00
State/Territory: Programmatic QI Plan (Annual Collection) | 54 | 1 | 54 | 2 | 108 | 26.00 | 2,808.00
State/Territory: Monthly Meeting Call Agenda | 54 | 12 | 648 | 1 | 648 | 26.00 | 16,848.00
State/Territory: Chat and Text Report (Annual Collection) | 54 | 1 | 54 | 1 | 54 | 26.00 | 1,404.00
State/Territory: Communications Plan (Annual Collection) | 54 | 1 | 54 | 1 | 54 | 26.00 | 1,404.00
State/Territory: Sustainability Plan (Annual Collection) | 54 | 1 | 54 | 2 | 108 | 26.00 | 2,808.00
State/Territory: Mobile Crisis and 988-911 reports (Annual Collection) | 54 | 1 | 54 | 6 | 324 | 26.00 | 8,424.00
Crisis Center Data Reporting Elements | 10 | 1 | 10 | 2 | 20 | 26.00 | 520.00
Crisis Center Monthly Agenda Template | 10 | 1 | 10 | 2 | 20 | 26.00 | 520.00
Instrument 1: Lifeline Key Metrics (Monthly) | 1 | 12 | 12 | 11.50 | 138 | 26.00 | 3,588.00
Instrument 2: Monthly Progress Reports | 1 | 12 | 12 | 4 | 48 | ⁱ 26.00 | 1,248.00
Total | 529 | 73 | 2,147 |  | 2,944 |  | 76,544.00
¹ The hourly wage of $26.00 was calculated based on rounding a $25.94 hourly wage based on the Occupational Employment and Wages, Mean Hourly Wage rate for Community and Social Service Occupations (https://www.bls.gov).

Written comments and recommendations for Send comments to Carlos Graham, SAMHSA Reports Clearance Officer, 5600 Fisher Lane, Room 15E57A, Rockville, MD 20852 OR email him a copy at samhsapra@samhsa.hhs.gov. Written comments should be received by November 27, 2023.

Carlos Graham,
Reports Clearance Officer.

[FR Doc. 2023-21166 Filed 9-27-23; 8:45 a.m.]

BILLING CODE 4162-20-P